DEPARTMENT OF HEALTH AND HUMAN SERVICES

Centers for Medicare & Medicaid Services

42 CFR Parts 430, 431, 433, 435, 436, and 440

Medicare and Medicaid Program; Regulatory Provisions To Promote Program Efficiency, Transparency, and Burden Reduction

CFR Correction

In Title 42 of the Code of Federal Regulations, Parts 430 to 481, revised as of October 1, 2013, in parts 430, 431, 433, 435, 436, and 440, make the following changes:

§§ 430.25, 431.120, 431.151, 431.153, 433.56, 435.217, 436.217, 440.1, 440.150 [Corrected]

In section | Remove | Add
430.25(c)(2) | ICF/IIDIID | ICF/IID.
431.120(a)(3) | ICF/IIDIID | ICF/IID.
431.151(a)(2) and (a)(3) | ICF/IIDIID | ICF/IID.
431.153(e)(1) introductory text | ICF/IIDIID | ICF/IID.
431.153(e)(1) introductory text, and (e)(1)(ii) | ICF/IIDICF/IID | ICF/IID.
433.56(a)(4) | ICF/IIDICF/IIDs | ICF/IIDs.
435.217(b)(1) | ICF/IIDICF/IID | ICF/IID.
436.217(b)(1) | ICF/IIDICF/IID | ICF/IID.
440.1, in the entry for “1915(c)” | ICF/IIDICF/IID | ICF/IID.
440.150 heading (both places where it appears), and (a) introductory text, and (a)(2) | ICF/IIDICF/IID | ICF/IID.

[FR Doc. 2014-23531 Filed 9-30-14; 8:45 am]

BILLING CODE 1505-01-D